DEPARTMENT OF COMMERCE

National Oceanic and Atmospheric Administration

50 CFR Part 635

[Docket No. 150413357-5667-01]

RIN 0648-XD898

Atlantic Highly Migratory Species; 2016 Atlantic Shark Commercial Fishing Season

AGENCY: National Marine Fisheries Service (NMFS), National Oceanic and Atmospheric Administration (NOAA), Commerce.

ACTION: Proposed rule; request for comments.

SUMMARY: This proposed rule would establish opening dates and adjust quotas for the 2016 fishing season for the Atlantic commercial shark fisheries. Quotas would be adjusted as allowable based on any over- and/or underharvests experienced during 2015 and previous fishing seasons. In addition, NMFS proposes season openings based on adaptive management measures to provide, to the extent practicable, fishing opportunities for commercial shark fishermen in all regions and areas. The proposed measures could affect fishing opportunities for commercial shark fishermen in the northwestern Atlantic Ocean, including the Gulf of Mexico and Caribbean Sea.

DATES: Written comments must be received by September 17, 2015.

ADDRESSES: You may submit comments on this document, identified by NOAA-NMFS-2015-0068, by any of the following methods:

• Electronic Submission: Submit all electronic public comments via the Federal e-Rulemaking Portal. Go to www.regulations.gov/#!docketDetail;D=NOAA-NMFS-2015-0068, click the “Comment Now!” icon, complete the required fields, and enter or attach your comments.

• Mail: Submit written comments to Margo Schulze-Haugen, NMFS/SF1, 1315 East-West Highway, National Marine Fisheries Service, SSMC3, Silver Spring, MD 20910.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Guý DuBeck or Karyl Brewster-Geisz at 301-427-8503.

SUPPLEMENTARY INFORMATION:

Background

The Atlantic commercial shark fisheries are managed under the authority of the Magnuson-Stevens Fishery Conservation and Management Act (Magnuson-Stevens Act). The 2006 Consolidated Highly Migratory Species (HMS) Fishery Management Plan (FMP) and its amendments are implemented by regulations at 50 CFR part 635. For the Atlantic commercial shark fisheries, the 2006 Consolidated HMS FMP and its amendments established, among other things, commercial shark retention limits, commercial quotas for species and management groups, accounting measures for under- and overharvests for the shark fisheries, and adaptive management measures such as flexible opening dates for the fishing season and inseason adjustments to shark trip limits, which provide management flexibility in furtherance of equitable fishing opportunities, to the extent practicable, for commercial shark fishermen in all regions and areas.

This proposed rule would establish quotas and opening dates for the 2016 Atlantic shark commercial fishing season based in part on the management measures in the recently published final rule for Amendment 6 to the 2006 Consolidated HMS FMP. In Amendment 6 to the 2006 Consolidated HMS FMP, NMFS established, among other things, an adjusted commercial shark retention limit for large coastal sharks (LCS) other than sandbar sharks, revised sandbar shark quota within the shark research fishery, sub-regional quotas in the Gulf of Mexico region for LCS, revised total allowable catches (TACs) and commercial quotas for the non-blacknose small coastal shark (SCS) fisheries in the Atlantic and Gulf of Mexico regions, and revised management measures for blacknose sharks.

2016 Proposed Quotas

This proposed rule would adjust the quota levels for the different shark stocks and management groups for the 2016 Atlantic commercial shark fishing season based on over- and underharvests that occurred during 2015 and previous fishing seasons, consistent with existing regulations at 50 CFR 635.27(b)(2). Over- and underharvests are accounted for in the same region, sub-region, and/or fishery in which they occurred the following year, except that large overharvests may be spread over a number of subsequent fishing years to a maximum of 5 years. Shark stocks or management groups that contain one or more stocks that are overfished, have overfishing occurring, or have an unknown status, will not have underharvest carried over in the following year. Stocks that are not overfished and have no overfishing occurring may have any underharvest carried over in the following year, up to 50 percent of the base quota.

The quotas in this proposed rule are based on dealer reports received as of July 17, 2015. In the final rule, NMFS will adjust the quotas based on dealer reports received as of a date in mid-October or mid-November 2015. For prior shark quota rules, NMFS has used information from dealer reports received as of October 15 through November 26, depending on the timing of the final rule. Thus, all of the 2016 proposed quotas for the respective stocks and management groups will be subject to further adjustment after NMFS considers the October/November dealer reports. All dealer reports that are received after the October or November date will be used to adjust the 2017 quotas, as appropriate.

For the sandbar shark, aggregated LCS, hammerhead shark, non-blacknose SCS, blacknose shark, blue shark, porbeagle shark, and pelagic shark (other than porbeagle or blue sharks) management groups, the 2015 underharvests cannot be carried over to the 2016 fishing season because those stocks or management groups have been determined to be overfished, overfished with overfishing occurring, or have an unknown status. Thus, for all of these management groups, the 2016 proposed quotas would be equal to the applicable base quota minus any overharvests that occurred in 2015 and previous fishing seasons, as applicable.

For the Gulf of Mexico blacktip shark management group, which has been determined not to be overfished and to have no overfishing occurring, available underharvest (up to 50 percent of the base quota) from the 2015 fishing season may be applied to the 2016 quota, and NMFS proposes to do so.

Regarding the blacknose shark management group, in the final rule establishing quotas for the 2014 shark season (78 FR 70500; November 26, 2013), NMFS decided to spread out the 2012 overharvest of the blacknose shark quota across 5 years (2014 through 2018) in both the Atlantic and Gulf of Mexico regions. In the final rule for Amendment 6 to the 2006 Consolidated HMS FMP, NMFS modified the regulations for blacknose shark fisheries in the Atlantic and Gulf of Mexico regions. In the Gulf of Mexico region and north of 34° N. latitude in the Atlantic region, NMFS has prohibited the retention of blacknose sharks. Thus, in this proposed rule, NMFS is not proposing any quotas for blacknose sharks in those areas. However, NMFS is proposing to reduce the blacknose shark quota for fishermen operating south of 34° N. latitude in the Atlantic region by 0.5 mt dw to account for the 2012 overharvest. Thus, before accounting for any landings from 2015, the 2016 adjusted annual quota for the Atlantic blacknose shark management group would be 16.7 mt dw (36,818 lb dw).

Based on current landings, the 2015 blacknose shark management group in the Atlantic region was overharvested by 2.9 mt dw (6,328 lb dw). NMFS is proposing to spread out the overharvest accounting over 3 years from 2016 through 2018, the same time period remaining for accounting for the 2012 overharvest, and NMFS is specifically requesting comments on whether NMFS should adjust the quotas over three or more (four or five) years or simply account for the entire overharvest in 2016. In the Atlantic region, accounting for the overharvest over 3 years would result in an overharvest reduction of 1.0 mt dw for 2016 and 2017, and 0.9 mt dw for 2018. This reduction combined with the 0.5 mt dw 2012 overharvest reduction represents 9 percent of the Atlantic region blacknose quota and thus would have both minimal economic impacts on the fishermen and minimal ecological impacts on the stocks. If NMFS reduced the 2016 quota by the full overharvest amount combined with the 2012 overharvest reduction (3.4 mt dw) in one year, this would result in a 20 percent reduction from the base quota, which could negatively impact fishermen and data collection, since the reduced quota would be below regional landings from past fishing seasons and could result in closing the non-blacknose SCS fishery in the Atlantic region south of 34° N. latitude earlier than it has in recent years. NMFS does not believe that accounting for the overharvests over time (1.0 mt dw for 2016 and 2017, and 0.9 mt dw for 2018) would affect the status of the Atlantic blacknose stock because fishing mortality levels would be maintained below levels established in the rebuilding plan. Thus, NMFS is proposing to reduce the 2016 base annual quota for the blacknose shark management group in the Atlantic region based on overharvests from 2012 and 2015.

The proposed 2016 quotas by species and management group are summarized in Table 1; the description of the calculations for each stock and management group can be found below.

BILLING CODE 3510-22-P

BILLING CODE 3510-22-C

1. Proposed 2016 Quotas for the Blacktip Sharks in the Gulf of Mexico Region

The 2016 proposed commercial quota for blacktip sharks in the eastern Gulf of Mexico sub-region is 28.9 mt dw (63,835 lb dw) and the western Gulf of Mexico sub-region is 266.6 mt dw (587,538 lb dw). As of July 17, 2015, preliminary reported landings for blacktip sharks in the Gulf of Mexico region were at 89 percent (291.1 mt dw) of their 2015 quota levels. Reported landings have not exceeded the 2015 quota to date, and the fishery was closed on May 3, 2015 (80 FR 24836). Gulf of Mexico blacktip sharks have not been declared to be overfished, to have overfishing occurring, or to have an unknown status. Pursuant to § 635.27(b)(2)(ii), underharvests for blacktip sharks within the Gulf of Mexico region therefore could be applied to the 2015 quotas up to 50 percent of the base quota. In the final rule establishing the 2015 quotas (79 FR 71331; December 2, 2014), the 2014 Gulf of Mexico blacktip shark quota was underharvested by 72.0 mt dw (158,602 lb dw). After the final rule establishing the 2015 quotas published, late dealer reports indicated the quota was underharvested by an additional 1.4 mt dw (3,142 lb dw), for a total underharvest of 73.4 mt dw (161,744 lb dw). During the 2015 fishing season to date, the regional Gulf of Mexico blacktip shark quota has been underharvested by 37.5 mt (82,531 lb dw). Accordingly, NMFS proposes to increase the 2016 Gulf of Mexico blacktip shark quota by 38.9 mt dw (37.5 mt dw underharvest in 2015 + 1.4 mt dw additional underharvest from 2014), which is less than the 50 percent limit (128.3 mt dw) allowed pursuant to the regulations. Thus, the proposed commercial regional Gulf of Mexico blacktip shark quota is 295.5 mt dw.

Recently, NMFS implemented Amendment 6 to the 2006 Consolidated HMS FMP, which, among other things, established sub-regional quotas for the Gulf of Mexico blacktip shark management group. Under these regulations, the eastern sub-region receives 9.8 percent of the regional Gulf of Mexico quota and the western sub-region receives 90.2 percent. Thus, the proposed eastern sub-regional Gulf of Mexico blacktip shark commercial quota is 28.9 mt dw and the proposed western sub-regional Gulf of Mexico blacktip shark commercial quota is 266.6 mt dw.

2. Proposed 2016 Quotas for the Aggregated LCS in the Gulf of Mexico Region

The 2016 proposed commercial quota for aggregated LCS in the eastern Gulf of Mexico sub-region is 85.5 mt dw (188,593 lb dw) and the western Gulf of Mexico sub-region is 72.0 mt dw (158,724 lb dw). As of July 17, 2015, preliminary reported landings for aggregated LCS in the Gulf of Mexico region were at 96 percent (150.4 mt dw) of their 2015 quota levels. Reported landings have not exceeded the 2015 quota to date, and the fishery was closed on May 3, 2015 (80 FR 24836). Given the unknown status of some of the shark species within the Gulf of Mexico aggregated LCS management group, underharvests cannot be carried over pursuant to § 635.27(b)(2)(ii). Therefore, based on preliminary estimates and consistent with the current regulations at § 635.27(b)(2), NMFS is not proposing to adjust 2016 quotas for aggregated LCS in the eastern Gulf of Mexico and western Gulf of Mexico sub-regions, because there have not been any overharvests and because underharvests cannot be carried over due to stock status.

3. Proposed 2016 Quota for the Aggregated LCS in the Atlantic Region

The 2016 proposed commercial quota for aggregated LCS in the Atlantic region is 168.9 mt dw (372,552 lb dw). As of July 17, 2015, the aggregated LCS fishery in the Atlantic region is still open and preliminary landings indicate 93 percent of the quota is still available. Given the unknown status of some of the shark species within the Atlantic aggregated LCS management group, underharvests cannot be carried over pursuant to § 635.27(b)(2)(ii). Therefore, based on preliminary estimates and consistent with current regulations at § 635.27(b)(2), NMFS is not proposing to adjust the 2016 quota for aggregated LCS in the Atlantic region, because there has not been any overharvests and underharvests cannot be carried over due to stock status.

4. Proposed 2016 Quotas for Hammerhead Sharks in the Gulf of Mexico and Atlantic Regions

The 2016 proposed commercial quotas for hammerhead sharks in the eastern Gulf of Mexico sub-region, western Gulf of Mexico sub-region, and Atlantic region are 13.4 mt dw (29,421 lb dw), 11.9 mt dw (23,301 lb dw), and 27.1 mt dw (59,736 lb dw), respectively. As of July 17, 2015, preliminary reported landings for hammerhead sharks were at 54 percent (13.8 mt dw) of their 2015 quota levels in the Gulf of Mexico region. Reported landings have not exceeded the 2015 quota to date, and the fishery was closed on May 3, 2015 (80 FR 24836). Currently, the hammerhead shark fishery in the Atlantic region is still open and preliminary landings indicate 98 percent of the quota is still available. Given the overfished status of hammerhead sharks, underharvests cannot be carried forward pursuant to § 635.27(b)(2)(ii). Therefore, based on preliminary estimates and consistent with the current regulations at § 635.27(b)(2), NMFS is not proposing to adjust 2016 quotas for hammerhead sharks in the eastern Gulf of Mexico sub-region, western Gulf of Mexico sub-region, and Atlantic region, because there have not been any overharvests and because underharvests cannot be carried over due to stock status.

5. Proposed 2016 Quotas for Research LCS and Sandbar Sharks Within the Shark Research Fishery

The 2016 proposed commercial quotas within the shark research fishery are 50.0 mt dw (110,230 lb dw) for research LCS and 90.7 mt dw (199,943 lb dw) for sandbar sharks. Within the shark research fishery, as of July 17, 2015, preliminary reported landings of research LCS were at 30 percent (14.8 mt dw) of their 2015 quota levels, and sandbar shark reported landings were at 52 percent (60.6 mt dw) of their 2015 quota levels. Reported landings have not exceeded the 2015 quotas to date. Under § 635.27(b)(2)(ii), because sandbar sharks and scalloped hammerhead sharks within the research LCS management group have been determined to be either overfished or overfished with overfishing occurring, underharvests for these management groups cannot be carried forward to the 2016 quotas. Therefore, based on preliminary estimates and consistent with the current regulations at § 635.27(b)(2), NMFS is not proposing to adjust 2016 quotas in the shark research fishery because there have not been any overharvests and because underharvests cannot be carried over due to stock status.

6. Proposed 2016 Quota for the Non-Blacknose SCS in the Gulf of Mexico Region

The 2016 proposed commercial quota for non-blacknose SCS in the Gulf of Mexico region is 107.3 mt dw (236,603 lb dw). As of July 17, 2015, preliminary reported landings of non-blacknose SCS were at 102 percent (46.2 mt dw) of their 2015 quota levels in the Gulf of Mexico region. Because reported landings had exceeded the 2015 quota, the fishery was closed on July 4, 2015 (80 FR 38016). In Amendment 6 to the 2006 Consolidated HMS FMP, NMFS increased the commercial Gulf of Mexico non-blacknose SCS quota to 112.6 mt dw (248,215 lb dw). Based on the current landings at that time, NMFS re-opened the non-blacknose SCS fishery and the reported landings have not exceeded the revised 2015 base quota to date. In the final rule establishing the 2015 quotas (79 FR 71331; December 2, 2014), the 2015 Gulf of Mexico non-blacknose SCS quota was not overharvested. However, after the final rule establishing the 2015 quotas published, late dealer reports indicated the quota was overharvested by 5.3 mt dw (11,612 lb dw) in 2014. Pursuant to § 635.27(b)(2)(i), overharvest of non-blacknose sharks would be applied to the regional quota over a maximum of 5 years. NMFS is proposing to apply the entire 2014 overharvest to the 2016 regional quota, because the overharvest is relatively small compared to the overall regional quota, and therefore NMFS anticipates minimal impacts from applying the overharvest in a single year. Therefore, based on preliminary estimates and consistent with the current regulations at § 635.27(b)(2), NMFS proposes to reduce the 2016 Gulf of Mexico non-blacknose SCS quota to 107.3 mt dw (112.6 mt dw annual base quota−5.3 mt dw 2014 overharvest = 107.3 mt dw 2016 adjusted annual quota).

7. Proposed 2016 Quota for the Non-Blacknose SCS in the Atlantic Region

The 2016 proposed commercial quota for non-blacknose SCS in the Atlantic region is 264.1 mt dw (582,333 lb dw). As of July 17, 2015, preliminary reported landings of non-blacknose SCS were at 56 percent (98.6 mt dw) of their 2015 quota levels in the Atlantic region. Though reported landings had not yet reached or exceeded the 2015 quota, the fishery was closed on June 7, 2015 (80 FR 32040), due to the quota linkage with blacknose sharks in the Atlantic region. In Amendment 6 to the 2006 Consolidated HMS FMP, NMFS increased the commercial Atlantic non-blacknose SCS quota to 264.1 mt dw (582,333 lb dw), removed the quota linkage between non-blacknose SCS and blacknose sharks for fishermen fishing north of 34° N. latitude, and re-opened the non-blacknose SCS fishery north of 34° N. latitude. Non-blacknose SCS fishing south of 34° N. latitude remained closed in 2015. Given the unknown status of bonnethead sharks within the Atlantic non-blacknose SCS management group, underharvests cannot be carried forward pursuant to § 635.27(b)(2)(ii). Therefore, based on preliminary estimates and consistent with the current regulations at § 635.27(b)(2), NMFS is not proposing to adjust the 2016 quota for non-blacknose SCS in the Atlantic region, because there have not been any overharvests and because underharvests cannot be carried over due to stock status.

8. Proposed 2016 Quota for the Blacknose Sharks in the Atlantic Region

The 2016 proposed commercial quota for blacknose sharks in the Atlantic region is 15.7 mt dw (34,700 lb dw). As of July 17, 2015, preliminary reported landings of blacknose sharks were at 116 percent (20.4 mt dw) of their 2015 quota levels in the Atlantic region. Reported landings have exceeded the 2015 quota to date, and the fishery was closed on June 7, 2015 (80 FR 32040). In Amendment 6 to the 2006 Consolidated HMS FMP, NMFS removed the quota linkage between non-blacknose SCS and blacknose sharks for fishermen fishing north of 34° N. latitude, but the blacknose shark management group south of 34° N. latitude remained closed, since the quota had been landed. Blacknose sharks have been declared to be overfished with overfishing occurring in the Atlantic region. Pursuant to § 635.27(b)(2)(i), overharvests of blacknose sharks would be applied to the regional quota over a maximum of 5 years. As described above, the 2012 blacknose quota was overharvested and NMFS decided to adjust the regional quotas over 5 years from 2014 through 2018 to mitigate the impacts of adjusting for the overharvest in a single year. In 2015, the Atlantic blacknose shark quota was overharvested by 2.9 mt dw (6,328 lb dw). NMFS is proposing to spread the 2015 overharvest over 3 years to mitigate the impacts of adjusting for the overharvest in a single year. Therefore, based on preliminary estimates and consistent with the current regulations at § 635.27(b)(2), the 2016 proposed commercial adjusted base quota for blacknose sharks in the Atlantic region is 15.7 mt dw (34,700 lb dw) (17.2 mt dw annual base quota−0.5 mt dw 2012 adjusted 5-year overharvest−1.0 mt dw 2015 adjusted 3-year overharvest = 15.7 mt dw 2016 adjusted annual quota). Note, the blacknose shark quota is available in the Atlantic region only for those vessels operating south of 34° N. latitude; north of 34° N. latitude; retention, landing, and sale of blacknose sharks is prohibited.

9. Proposed 2019 Quotas for Pelagic Sharks

The 2016 proposed commercial quotas for blue sharks, porbeagle sharks, and pelagic sharks (other than porbeagle or blue sharks) are 273 mt dw (601,856 lb dw), 1.7 mt dw (3,748 lb dw), and 488 mt dw (1,075,856 lb dw), respectively. The porbeagle shark fishery was closed in 2015 due to overharvest in 2014. As of July 17, 2015, preliminary reported landings of blue sharks and pelagic sharks (other than porbeagle and blue sharks) were at less than 1 percent (0.5 mt dw) and 10 percent (50.7 mt dw) of their 2015 quota levels, respectively. Given these pelagic species are overfished, have overfishing occurring, or have an unknown status, underharvests cannot be carried forward pursuant to § 635.27(b)(2)(ii). Therefore, based on preliminary estimates and consistent with the current regulations at § 635.27(b)(2), NMFS is not proposing to adjust 2016 quotas for blue sharks and pelagic sharks (other than porbeagle and blue sharks), because there have not been any overharvests and because underharvests cannot be carried over due to stock status.

Proposed Fishing Season Notification for the 2015 Atlantic Commercial Shark Fishing Season

For each fishery, NMFS considered the seven “Opening Commercial Fishing Season Criteria” listed at § 635.27(b)(3). The “Opening Fishing Season” criteria consider factors such as the available annual quotas for the current fishing season, estimated season length and average weekly catch rates from previous years, length of the season and fishermen participation in past years, impacts to accomplishing objectives of the 2006 Consolidated HMS FMP and its amendments, temporal variation in behavior or biology target species (e.g., seasonal distribution or abundance), impact of catch rates in one region on another, and effects of delayed season openings.

Specifically, NMFS examined the 2015 and previous fishing years' over- and/or underharvests of the different management groups to determine the effects of the 2016 proposed commercial quotas on fishermen across regional and sub-regional fishing areas. NMFS also examined the potential season length and previous catch rates to ensure that equitable fishing opportunities would be provided to fishermen in all areas. Lastly, NMFS examined the seasonal variation of the different species/management groups and the effects on fishing opportunities.

In addition to considering the seven “Opening Commercial Fishing Season Criteria,” NMFS is also considering the revised commercial shark retention limit and other management measures in the final rule for Amendment 6 to the 2006 Consolidated HMS FMP in determining the proposed opening dates for 2016.

NMFS is proposing that the 2016 Atlantic commercial shark fishing season for all shark management groups in the northwestern Atlantic Ocean, including the Gulf of Mexico and the Caribbean Sea, open on or about January 1, 2016, after the publication of the final rule for this action. NMFS is also proposing to start the 2016 commercial shark fishing season with the default retention limit of 45 LCS other than sandbar sharks per vessel per trip.

In the Atlantic region, NMFS proposes opening the aggregated LCS and hammerhead shark management groups on or about January 1, 2016. This opening date takes into account all the criteria listed in § 635.27(b)(3), and particularly the criterion that NMFS consider the effects of catch rates in one part of a region precluding vessels in another part of that region from having a reasonable opportunity to harvest a portion of the different species and/or management quotas. In addition, during the comment periods for the 2015 shark season proposed rule (79 FR 54252; September 11, 2014) and proposed rule for Amendment 6 to the 2006 Consolidated HMS FMP (80 FR 2648; January 20, 2015), NMFS received comments from fishermen from all areas of the Atlantic requesting that the aggregated LCS and hammerhead shark management groups open in January. In public comments during Amendment 6 to the 2006 Consolidated HMS FMP, constituents suggested a January opening date such that a portion of the quota could be harvested in the beginning of the year and then the trip limits be reduced such that the rest of the quota could be harvested at the end of the fishing year. As such, NMFS is intending to use the inseason trip limit adjustment criteria in the regulations per § 635.24(a)(8) for the first time in 2016. The inseason trip limit adjustment criteria would allow more equitable fishing opportunities across the fishery. The proposed opening date with the default retention limit of 45 LCS other than sandbar sharks per vessel per trip should allow fishermen to harvest some of the 2016 quota at the beginning of the year, when sharks are more prevalent in the South Atlantic area. If it appears that the quota is being harvested too quickly to allow fishermen throughout the entire region an opportunity to fish, NMFS would reduce the commercial retention limits taking into account § 635.27(b)(3) and the inseason trip limit adjustment criteria listed in § 635.24(a)(8), particularly the consideration of whether catch rates in one part of a region or sub-region are precluding vessels in another part of that region or sub-region from having a reasonable opportunity to harvest a portion of the relevant quota (§ 635.24(a)(8)(vi)). If that occurs, NMFS would file with the Office of the Federal Register for publication notification of any inseason adjustments of the retention limit to an appropriate limit between 0 and 55 sharks per trip. NMFS would increase the commercial retention limits per trip at a later date to provide fishermen in the northern portion of the Atlantic region an opportunity to retain non-sandbar LCS.

For example, the aggregated LCS and hammerhead shark management groups could open in January and NMFS could allow approximately 30 percent of the quota to be retained. Once the quota reaches about 30 percent, NMFS could reduce the retention limit to incidental levels (3 LCS other than sandbar sharks per vessel per trip) or another level calculated to reduce the harvest of LCS. If the quota continues to be harvested quickly, NMFS could reduce the retention limit to 0 LCS other than sandbar sharks per vessel per trip to ensure enough quota remains until later in the year. At some point later in the year, potentially equivalent to recent fishing season opening dates (e.g., July 1 or July 15), NMFS could increase the retention limit to the default level (45 LCS other than sandbar sharks per vessel per trip) or another amount, as deemed appropriate after considering the inseason trip limit adjustment criteria. If the quota is being harvested too fast or too slow, NMFS could adjust the retention limit appropriately to ensure the fishery remains open most of the rest of the year.

In the Gulf of Mexico region, opening the fishing season on or about January 1, 2016, for aggregated LCS, blacktip sharks, and hammerhead sharks with the default retention limit of 45 LCS other than sandbar sharks per vessel per trip would provide, to the extent practicable, equitable opportunities across the fisheries management sub-regions. This opening date takes into account all the criteria listed in § 635.27(b)(3), and particularly the criterion that NMFS consider the length of the season for the different species and/or management group in the previous years and whether fishermen were able to participate in the fishery in those years. Similar to the retention limit adjustment process described for the Atlantic region, NMFS may consider adjusting the retention limit in the Gulf of Mexico region throughout the season to ensure fishermen in all parts of the region have an opportunity to harvest aggregated LCS, blacktip sharks, and hammerhead sharks.

All of the shark management groups would remain open until December 31, 2016, or until NMFS determines that the fishing season landings for any shark management group has reached, or is projected to reach, 80 percent of the available quota. In the final rule for Amendment 6 to the 2006 Consolidated HMS FMP, NMFS revised non-linked and linked quotas and explained that the linked quotas are explicitly designed to concurrently close multiple shark management groups that are caught together to prevent incidental catch mortality from causing total allowable catch to be exceeded. If NMFS determines that a non-linked shark species or management group must be closed, then, consistent with § 635.28(b)(2) for non-linked quotas (e.g., eastern Gulf of Mexico blacktip, western Gulf of Mexico blacktip, Gulf of Mexico non-blacknose SCS, or pelagic sharks), NMFS will file for publication with the Office of the Federal Register a notice of closure for that shark species, shark management group, region, and/or sub-region that will be effective no fewer than 5 days from date of filing. From the effective date and time of the closure until NMFS announces, via the publication of a notice in the Federal Register, that additional quota is available and the season is reopened, the fisheries for the shark species or management group are closed, even across fishing years.

If NMFS determines that a linked shark species or management group must be closed, then, consistent with § 635.28(b)(3) for linked quotas, NMFS will file for publication with the Office of the Federal Register a notice of closure for all of the species and/or management groups in a linked group that will be effective no fewer than 5 days from date of filing. From the effective date and time of the closure until NMFS announces, via the publication of a notice in the Federal Register, that additional quota is available and the season is reopened, the fisheries for all linked species and/or management groups are closed, even across fishing years. The linked quotas of the species and/or management groups are Atlantic hammerhead sharks and Atlantic aggregated LCS; eastern Gulf of Mexico hammerhead sharks and eastern Gulf of Mexico aggregated LCS; western Gulf of Mexico hammerhead sharks and western Gulf of Mexico aggregated LCS; and Atlantic blacknose and Atlantic non-blacknose SCS south of 34° N. latitude. NMFS may close the fishery for the Gulf of Mexico blacktip shark before landings reach, or are expected to reach, 80 percent of the quota, after considering the criteria listed at § 635.28(b)(5).

NMFS determined that the final rules to implement Amendment 2 to the 2006 Consolidated HMS FMP (June 24, 2008, 73 FR 35778; corrected on July 15, 2008, 73 FR 40658), Amendment 5a to the 2006 Consolidated HMS FMP (78 FR 40318; July 3, 2013), and Amendment 6 to the 2006 Consolidated HMS FMP are consistent to the maximum extent practicable with the enforceable policies of the approved coastal management program of coastal states on the Atlantic including the Gulf of Mexico and the Caribbean Sea. Pursuant to 15 CFR 930.41(a), NMFS provided the Coastal Zone Management Program of each coastal state a 60-day period to review the consistency determination and to advise the Agency of their concurrence. NMFS received concurrence with the consistency determinations from several states and inferred consistency from those states that did not respond within the 60-day time period. This proposed action to establish opening dates and adjust quotas for the 2016 fishing season for the Atlantic commercial shark fisheries does not change the framework previously consulted upon; therefore, no additional consultation is required.

Request for Comments

Comments on this proposed rule may be submitted via http://www.regulations.gov and mail. NMFS solicits comments on this proposed rule by September 17, 2015 (see DATES and ADDRESSES). In addition to comments on the entire rule, NMFS is specifically requesting comments on the proposed 3-year adjustment for the blacknose shark quota in the Atlantic Region to account for the overharvest of blacknose sharks in 2015. NMFS is proposing to spread the overharvested amount over a 3-year period (2016 to 2018) to reduce impacts on the blacknose shark and non-blacknose SCS fisheries, which are linked fisheries in the Atlantic region south of 34° N. latitude. Since the overharvested quota would be spread over 3 years in addition to the 2012 overharvest reduction which continues through 2018, the Atlantic blacknose shark quota would be reduced by 1.5 mt dw (3,221 lb dw) in 2016 and the adjusted quota would be 15.7 mt dw (34,700 lb dw). If additional overharvest occurs, the adjusted blacknose shark quota could be further reduced to account for this potential overharvest. If NMFS accounted for the full 2015 overharvest amount in the 2016 quota in addition to the 2012 overharvest reduction, the blacknose shark quota would be reduced by 3.4 mt dw (7,439 lb dw) and the adjusted quota would be 13.8 mt dw (30,482 lb dw), which could result in an early fishery closure in the Atlantic region south of 34° N. latitude and have adverse impacts for blacknose and non-blacknose fishermen and dealers. This second scenario would not have any 2015 overharvest impacts beyond 2016.

Public Hearings

Public hearings on this proposed rule are not currently scheduled. If you would like to request a public hearing, please contact Guý DuBeck or Karyl Brewster-Geisz by phone at 301-427-8503.

Classification

The NMFS Assistant Administrator has determined that the proposed rule is consistent with the 2006 Consolidated HMS FMP and its amendments, the Magnuson-Stevens Act, and other applicable law, subject to further consideration after public comment.

These proposed specifications are exempt from review under Executive Order 12866.

An initial regulatory flexibility analysis (IRFA) was prepared, as required by section 603 of the Regulatory Flexibility Act (RFA). The IRFA describes the economic impact this proposed rule, if adopted, would have on small entities. The IRFA analysis follows.

Section 603(b)(1) of the RFA requires Agencies to explain the purpose of the rule. This rule, consistent with the Magnuson-Stevens Act and the 2006 Consolidated HMS FMP and its amendments, is being proposed to establish the 2016 commercial shark fishing quotas and fishing seasons. Without this rule, the commercial shark fisheries would close on December 31, 2015, and would not open until another action was taken. This proposed rule would be implemented according to the regulations implementing the 2006 Consolidated HMS FMP and its amendments. Thus, NMFS expects few, if any, economic impacts to fishermen other than those already analyzed in the 2006 Consolidated HMS FMP and its amendments, based on the quota adjustments.

Section 603(b)(2) of the RFA requires Agencies to explain the rule's objectives. The objectives of this rule are to: Adjust the baseline quotas for all Atlantic shark management groups based on any over- and/or underharvests from the previous fishing year(s) and to establish the opening dates of the various management groups in order to provide, to the extent practicable, equitable opportunities across the fishing management regions and/or sub-regions while also considering the ecological needs of the different shark species.

Section 603(b)(3) of the RFA requires Federal agencies to provide an estimate of the number of small entities to which the rule would apply. The Small Business Administration (SBA) has established size criteria for all major industry sectors in the United States, including fish harvesters. The SBA size standards are $20.5 million for finfish fishing, $5.5 million for shellfish fishing, and $7.5 million for other marine fishing, for-hire businesses, and marinas (79 FR 33467; June 12, 2014). NMFS considers all HMS permit holders to be small entities because they had average annual receipts of less than $20.5 million for finfish-harvesting. The commercial shark fisheries are comprised of fishermen who hold shark directed or incidental limited access permits and the related shark dealers, all of which NMFS considers to be small entities according to the size standards set by the SBA. The proposed rule would apply to the approximately 208 directed commercial shark permit holders, 255 incidental commercial shark permit holders, and 100 commercial shark dealers as of July 2015. NMFS solicits public comment on the IRFA.

This proposed rule does not contain any new reporting, recordkeeping, or other compliance requirements (5 U.S.C. 603(b)(4)). Similarly, this proposed rule would not conflict, duplicate, or overlap with other relevant Federal rules (5 U.S.C. 603(b)(5)). Fishermen, dealers, and managers in these fisheries must comply with a number of international agreements as domestically implemented, domestic laws, and FMPs. These include, but are not limited to, the Magnuson-Stevens Act, the Atlantic Tunas Convention Act, the High Seas Fishing Compliance Act, the Marine Mammal Protection Act, the Endangered Species Act, the National Environmental Policy Act, the Paperwork Reduction Act, and the Coastal Zone Management Act.

Section 603(c) of the RFA requires each IRFA to contain a description of any significant alternatives to the proposed rule which would accomplish the stated objectives of applicable statutes and minimize any significant economic impact of the proposed rule on small entities. Additionally, the RFA (5 U.S.C.603 (c)(1)-(4)) lists four general categories of significant alternatives that would assist an agency in the development of significant alternatives. These categories of alternatives are: (1) Establishment of differing compliance or reporting requirements or timetables that take into account the resources available to small entities; (2) clarification, consolidation, or simplification of compliance and reporting requirements under the rule for such small entities; (3) use of performance rather than design standards; and, (4) exemptions from coverage of the rule for small entities. In order to meet the objectives of this proposed rule, consistent with the Magnuson-Stevens Act, NMFS cannot exempt small entities or change the reporting requirements only for small entities because all the entities affected are considered small entities; therefore, there are no alternatives discussed that fall under the first, third, and fourth categories described above. NMFS does not know of any performance or design standards that would satisfy the aforementioned objectives of this rulemaking while, concurrently, complying with the Magnuson-Stevens Act; therefore, there are no alternatives considered under the third category.

This rulemaking does not establish management measures to be implemented, but rather implements previously adopted and analyzed measures with adjustments, as specified in the 2006 Consolidated HMS FMP and its amendments and the Environmental Assessment (EA) that accompanied the 2011 shark quota specifications rule (75 FR 76302; December 8, 2010). Thus, NMFS proposes to adjust quotas established and analyzed in the 2006 Consolidated HMS FMP and its amendments by subtracting the underharvest or adding the overharvest as allowable. Thus, NMFS has limited flexibility to modify the quotas in this rule, the impacts of which were analyzed in previous regulatory flexibility analyses.

Based on the 2014 ex-vessel price, fully harvesting the unadjusted 2016 Atlantic shark commercial baseline quotas could result in total fleet revenues of $4,583,514 (see Table 2). For the Gulf of Mexico blacktip shark management group, NMFS is proposing to increase the baseline sub-regional quotas due to the underharvests in 2015. The increase for the eastern Gulf of Mexico blacktip shark management group could result in a $8,413 gain in total revenues for fishermen in that sub-region, while the increase for the western Gulf of Mexico blacktip shark management group could result in a $77,432 gain in total revenues for fishermen in that sub-region. For the Gulf of Mexico non-blacknose SCS management group, NMFS is proposing to reduce the baseline quota due to the overharvest in 2014. This would cause a potential loss in revenue of $7,571 for the fleet in the Gulf of Mexico region. For the Atlantic blacknose shark management group, NMFS will continue to reduce the baseline quota through 2018 to account for overharvest in 2012 and is proposing to reduce the baseline quota for the next 3 years to account for overharvest in 2015. These reductions would cause a potential loss in revenue of $3,157 for the fleet in the Atlantic region.

All of these changes in gross revenues are similar to the changes in gross revenues analyzed in the 2006 Consolidated HMS FMP and its amendments. The FRFAs for those amendments concluded that the economic impacts on these small entities are expected to be minimal. In the 2006 Consolidated HMS FMP and its amendments and the EA for the 2011 shark quota specifications rule, NMFS stated it would be conducting annual rulemakings and considering the potential economic impacts of adjusting the quotas for under- and overharvests at that time.

Table 2—Average Ex-Vessel Prices per lb dw for Each Shark Management Group, 2014
Region | Species | Average ex-vessel meat price | Average ex-vessel fin price
Gulf of Mexico | Blacktip Shark | $0.50 | $9.53
| Aggregated LCS | 0.54 | 10.04
| Hammerhead Shark | 0.48 | 10.21
| Non-Blacknose SCS | 0.36 | 5.84
| Blacknose Shark | 0.86 | 5.84
Atlantic | Aggregated LCS | 0.75 | 4.19
| Hammerhead Shark | 0.57 | 2.33
| Non-Blacknose SCS | 0.74 | 4.00
| Blacknose Shark | 0.78 | 4.00
No Region | Shark Research Fishery (Aggregated LCS) | 0.58 | 7.68
| Shark Research Fishery (Sandbar only) | 0.69 | 10.12
| Blue shark | 0.67 | 2.34
| Porbeagle shark | 1.41 | 2.34
| Other Pelagic sharks | 1.41 | 2.34

For this rule, NMFS also reviewed the criteria at § 635.27(b)(3) to determine when opening each fishery would provide equitable opportunities for fishermen while also considering the ecological needs of the different species. The opening of the fishing season could vary depending upon the available annual quota, catch rates, and number of fishing participants during the year. For the 2016 fishing season, NMFS is proposing to open all of the shark management groups on the effective date of the final rule for this action (expected to be on or about January 1). The direct and indirect economic impacts would be neutral on a short- and long-term basis, because NMFS is not proposing to change the opening dates of these fisheries from the status quo, except for aggregated LCS and hammerhead sharks in the Atlantic.

Opening the aggregated LCS and hammerhead shark management groups in the Atlantic region on the effective date of the final rule for this action (expected to be on or about January 1) would result in short-term, direct, moderate, beneficial economic impacts, as fishermen and dealers in the southern portion of the Atlantic region would be able to fish for aggregated LCS and hammerhead sharks starting on or about January. These fishermen would be able to fish earlier in the 2016 fishing season compared to the 2010, 2011, 2012, 2014, and 2015 fishing seasons, which did not start until June or July. These fishermen commented during the public comment period for the past shark specification rulemakings and Amendment 6 to the 2006 Consolidated HMS FMP that they felt that opening the fishery in July was not fair to them because, by July, the sharks have migrated north and are no longer available. With the implementation of the HMS electronic reporting system in 2013, NMFS now monitors the quota on a more real-time basis compared to the paper reporting system that was in place before 2013. This ability, along with the inseason adjustment criteria in § 635.24(a)(8), should allow NMFS the flexibility to further provide equitable fishing opportunities for fishermen across all regions, to the extent practicable. Depending on how quickly the quota is being harvested, NMFS could reduce the retention limits to ensure that fishermen farther north have sufficient quota for a fishery later in the 2016 fishing season. The direct impacts to shark fishermen in the Atlantic region of reducing the trip limit would depend on the needed reduction in the trip limit and the timing of such a reduction. Therefore, such a reduction in the trip limit is only anticipated to have minor adverse direct economic impacts to fishermen in the short-term; long-term impacts are not anticipated as these reductions would not be permanent.

In the northern portion of the Atlantic region, a potential January 1 opening for the aggregated LCS and hammerhead shark management groups, with inseason trip limit adjustments to ensure quota is available later in the season, would have direct, minor, beneficial economic impacts in the short-term for fishermen as they would potentially have access to the aggregated LCS and hammerhead shark quotas earlier than in past seasons. Fishermen in this area have stated that, depending on the weather, some aggregated LCS species might be available to retain in January. Thus, fishermen would be able to target or retain aggregated LCS while targeting non-blacknose SCS. There would be indirect, minor, beneficial economic impacts in the short- and long-term for shark dealers and other entities that deal with shark products in this region as they would also have access to aggregated LCS products earlier than in past seasons. Thus, opening the aggregated LCS and hammerhead shark management groups in January and using inseaon trip limit adjustments to ensure a fishery later in the year in 2016 would cause beneficial cumulative economic impacts, since it would allow for a more equitable distribution of the quotas among constituents in this region, which was the original intent of Amendments 2 and 6.

Authority: 16 U.S.C. 971 et seq.; 16 U.S.C. 1801 et seq.

Dated: August 6, 2015.
Samuel D. Rauch III,
Deputy Assistant Administrator for Regulatory Programs, National Marine Fisheries Service.

[FR Doc. 2015-19915 Filed 8-17-15; 8:45 am]

BILLING CODE 3510-22-P